FEDERAL ELECTION COMMISSION

Sunshine Act Meeting Notice

AGENCY: Federal Election Commission.

DATE AND TIME: Thursday, November 1, 2012 AT 10:00 a.m.

PLACE: 999 E Street NW., Washington, DC (Ninth Floor)

STATUS: This Meeting Will Be Open to the Public.

ITEMS TO BE DISCUSSED:

Correction and Approval of the Minutes for the Meeting of October 18, 2012

Request for Reconsideration of Advisory Opinion 2012-25: American Future Fund, American Future Fund Political Action, McIntosh

Draft Advisory Opinion 2012-34: Freedom PAC and Friends of Mike H

Audit Division Recommendation Memorandum on Rightmarch.com PAC, Inc. (A09-25)

Audit Division Recommendation Memorandum on the Maine Republican Party (MRP) (A09-09)

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-26710 Filed 10-26-12; 11:15 am]

BILLING CODE 6715-01-P